DEPARTMENT OF JUSTICE

Notice of Lodging Proposed Consent Decree

In accordance with Departmental Policy, 28 CFR 50.7, notice is hereby given that a proposed Consent Decree and Stipulation and Order in United States, et al. v. James C. Justice, II, et al., No. 1:15-cv-16018, were lodged with the United States District Court for the Southern District of West Virginia (Bluefield Division) on December 10, 2015.

The proposed Consent Decree and Stipulation and Order concern a complaint filed by the United States and the State of West Virginia, by and through the West Virginia Department of Environmental Protection, against James C. Justice, II, the James C. Justice Companies, Inc., and High Mountain Living, LLC, pursuant to 33 U.S.C. 1311, 1319 and 1344, and the West Virginia Water Pollution Control Act, W. Va. Code Chapter 22, Article 11, et seq., to obtain injunctive relief from and impose civil penalties against the Defendants for violating the Clean Water Act by discharging pollutants without a permit into waters of the United States. The proposed Consent Decree resolves these allegations against Defendants James C. Justice, II and the James C. Justice Companies, Inc. by requiring the Defendants to restore the impacted areas, perform mitigation as needed, and pay a civil penalty. The Stipulation and Order resolves the allegations against Defendant High Mountain Living, LLC by requiring the payment of a civil penalty.

The Department of Justice will accept written comments relating to the proposed Consent Decree and Stipulation and Order for thirty (30) days from the date of publication of this Notice. Please address comments to Austin D. Saylor, Trial Attorney, United States Department of Justice, Environment and Natural Resources Division, Environmental Defense Section, Post Office Box 7611, Washington, DC 20044, and refer to United States, et al. v. James C. Justice, II, et al., DJ #90-5-1-1-20019.

The proposed Consent Decree and Stipulation and Order may be examined at the Clerk's Office, United States District Court for the Southern District of West Virginia (Bluefield Division), 601 Federal Street, Room 2303, Bluefield, WV 24701. In addition, the proposed Consent Decree and Stipulation and Order may be examined electronically at http://www.justice.gov/enrd/consent-decrees.

Cherie L. Rogers,
Assistant Section Chief, Environmental Defense Section, Environment and Natural Resources Division.

[FR Doc. 2015-32110 Filed 12-21-15; 8:45 am]

BILLING CODE 4410-15-P